DEPARTMENT OF THE INTERIOR

National Park Service

[NPS-WASO-NAGPRA-NPS0026666; PPWOCRADN0-PCU00RP14.R50000]

Notice of Intent To Repatriate Cultural Items: University of California, Davis, Davis, CA

AGENCY: National Park Service, Interior.

ACTION: Notice.

SUMMARY: The University of California, Davis, in consultation with the appropriate Indian Tribes or Native Hawaiian organizations, has determined that the cultural items listed in this notice meet the definition of unassociated funerary objects. Lineal descendants or representatives of any Indian Tribe or Native Hawaiian organization not identified in this notice that wish to claim these cultural items should submit a written request to the University of California, Davis. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of California, Davis at the address in this notice by December 13, 2018.

ADDRESSES: Megon Noble, NAGPRA Project Manager, University of California, Davis, 433 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3005, of the intent to repatriate cultural items under the control of the University of California, Davis, Davis, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime before 1904, 13 cultural items were removed from a cremation knoll on Mameluke Hill in El Dorado County, CA. A schoolteacher and her son removed the cultural items from the cremation knoll and gave them to Mr. C. Hart Merriam in 1904. In 1962, C. Hart Merriam's daughter sold the collections accumulated by her father to the University of California, Davis. The 13 unassociated funerary objects are 11 sets of trade beads, one set of barita beads, and one stone amulet.

C. Hart Merriam noted that the cultural items show evidence of burning, and were collected from a cremation knoll. Cremation is the historically documented burial practice of Nisenan peoples. Merriam affiliated the cultural items with the Nisenan. Mameluke Hill is located in the historically documented aboriginal territory of the Nisenan, who are today represented by the Ione Band of Miwok Indians of California; Jackson Band of Miwuk Indians (previously listed as the Jackson Rancheria of Me-Wuk Indians of California); Shingle Springs Band of Miwok Indians, Shingle Springs Rancheria (Verona Tract), California; United Auburn Indian Community of the Auburn Rancheria of California; and the Wilton Rancheria, California, hereafter referred to as “The Tribes.” The glass trade beads date to the historic period.

Determinations Made by the University of California, Davis

Officials of the University of California, Davis have determined that:

• Pursuant to 25 U.S.C. 3001(3)(B), the 13 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Tribes.

Additional Requestors and Disposition

Lineal descendants or representatives of any Indian Tribe or Native Hawaiian organization not identified in this notice that wish to claim these cultural items should submit a written request with information in support of the claim to Megon Noble, NAGPRA Project Manager, University of California, Davis, 433 Mrak Hall, One Shields Avenue, Davis, CA 95616, telephone (530) 752-8501, email mnoble@ucdavis.edu, by December 13, 2018. After that date, if no additional claimants have come forward, transfer of control of the unassociated funerary objects to The Tribes may proceed.

The University of California, Davis is responsible for notifying The Tribes that this notice has been published.

Dated: October 4, 2018.
Melanie O'Brien,
Manager, National NAGPRA Program.

[FR Doc. 2018-24661 Filed 11-9-18; 8:45 am]

BILLING CODE 4312-52-P